DEPARTMENT OF ENERGY

Federal Energy Regulatory Commission

[Docket No. PR02-13-000]

The Cincinnati Gas & Electric Company; Notice of Petition for Rate Approval

April 2, 2002.

Take notice that on March 1, 2001, The Cincinnati Gas & Electric Company (Cincinnati), filed a new rate election pursuant to Section 284.123(b)(1)(ii) of the Federal Energy Regulatory Commission's (Commission), Regulations (18 CFR 284.123). Cincinnati proposes an effective date of March 1, 2002.

Pursuant to Section 284.123(b)(1)(ii) of the Commission's regulation, Cincinnati proposes to utilize a cost-based rate that has been approved by the Public Utilities Commission of Ohio, in this instance Cincinnati's currently effective Rate IT for comparable interruptible transportation service.

Pursuant to section 284.123(b)(2)(ii), if the Commission does not act within 150 days of the date of this filing, the rates will be deemed to be fair and equitable and not in excess of an amount which interstate pipelines would be permitted to charge for similar transportation service. The Commission may, prior to the expiration of the 150 day period, extend the time for action or institute a proceeding to afford parties an opportunity for written comments and for the oral presentation of views, data, and arguments.

Any person desiring to participate in this rate proceeding must file a motion to intervene or protest with the Federal Energy Regulatory Commission, 888 First Street, NE., Washington DC 20426, in accordance with Sections 385.214 or 385.211 of the Commission's Rules and Regulations. All such motions or protests must be filed with the Secretary of the Commission on or before April 17, 2002. Protests will be considered by the Commission in determining the appropriate action to be taken, but will not serve to make protestants parties to the proceedings. Any person wishing to become a party must file a motion to intervene. This petition for rate approval is on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-8404 Filed 4-5-02; 8:45 am]

BILLING CODE 6717-01-P